FEDERAL COMMUNICATIONS COMMISSION

[FR ID: 171427]

Privacy Act of 1974; System of Records

AGENCY: Federal Communications Commission.

ACTION: Rescindment of a system of records notice.

SUMMARY: The FCC's Wireless Telecommunications Bureau (WTB) database stores applications for radiotelephone (wireless) operator's licenses or permits prior to the implementation of the FCC's universal licensing system in 2001 and related materials. These documents contain the personally identifiable information of individuals who voluntarily submit their contact information to the WTB.

DATES: The rescindment will become effective 30 days after publication.

ADDRESSES: Comments can be submitted to Privacy@fcc.gov.

FOR FURTHER INFORMATION CONTACT: For further information please contact Katherine C. Clark at 202-418-1773 or Privacy@fcc.gov.

SUPPLEMENTARY INFORMATION: The Privacy Act provides that an agency may collect or maintain in its records only information about individuals that is relevant and necessary to accomplish a purpose that is required by a statute or executive order. The FCC has determined that the FCC/WTB-5, Application Review List for Present or Former Licensees, Operators, or Unlicensed Persons Operating Radio Equipment, system of records no longer meets this standard, because WTB no longer maintains the system's manual lists, nor has it retained any paper files from this system. The lists are now contained in an electronic alert list in the FCC/WTB-1, Wireless Services Licensing Records, system of records. All of the paper records for this system have been destroyed in accordance with the retention and disposal provisions of the WTB-5 SORN. Therefore, the FCC proposes to rescind FCC/WTB-5, Application Review List for Present or Former Licensees, Operators, or Unlicensed Persons Operating Radio Equipment Improperly.

SYSTEM NAME AND NUMBER:

FCC/WTB-5, Application Review List for Present or Former Licensees, Operators, or Unlicensed Persons Operating Radio Equipment Improperly.

HISTORY:

71 FR 17271 (April 5, 2006).

Katura Jackson,
Federal Register Liaison Officer.

[FR Doc. 2023-19967 Filed 9-14-23; 8:45 am]

BILLING CODE 6712-01-P